DEPARTMENT OF TRANSPORTATION

Maritime Administration

[Docket No. MARAD-2017-0143]

Request for Comments on the Renewal of a Previously Approved Information Collection: Automated Mutual Assistance Vessel Rescue System (AMVER)

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. The collection of information is necessary for plotting of U.S.-flag and U.S.-owned vessel locations. A Federal Register Notice with a 60-day comment period soliciting comments on the following information collection was published on April 24, 2017 (Federal Register 18966, Vol. 82, No.77).

DATES: Comments must be submitted on or before October 2, 2017.

ADDRESSES: Send comments regarding the burden estimate, including suggestions for reducing the burden, to the Office of Management and Budget, Attention: Desk Officer for the Office of the Secretary of Transportation, 725 17th Street NW., Washington, DC 20503.

FOR FURTHER INFORMATION CONTACT: Russell Krause, 202-366-1031, Division of Sealift Operations and Emergency Response, Maritime Administration, U.S. Department of Transportation, 1200 New Jersey Avenue SE., Washington, DC 20590.

SUPPLEMENTARY INFORMATION: Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Title: Automated Mutual Assistance Vessel Rescue System (AMVER).

OMB Control Number: 2133-0025.

Type of Request: Renewal of a Previously Approved Information Collection.

Abstract: This collection of information is used to gather information regarding the location of U.S.-flag vessels and certain other U.S. citizen-owned vessels for the purpose of search and rescue in the saving of lives at sea and for the marshalling of ships for national defense and safety purposes. This collection consists of vessels that transmit their positions through various electronic means.

Respondents: U.S.-flag and U.S. citizen-owned vessels that are required to respond under current statute and regulation.

Affected Public: U.S.-flag and U.S. citizen-owned vessels that are required to respond under current statute and regulation.

Estimated Number of Respondents: 171.

Estimated Number of Responses: 31293/183 per respondent.

Estimated Hours per Response: .07.

Annual Estimated Total Annual Burden Hours: 2,191.

Frequency of Response: Annually.

Authority: The Paperwork Reduction Act of 1995; 44 U.S.C. Chapter 35, as amended; and 49 CFR 1.93.

* * *

By Order of the Maritime Administrator.
Dated: August 29, 2017
T. Mitchell Hudson, Jr.,
Secretary, Maritime Administration.

[FR Doc. 2017-18592 Filed 8-31-17; 8:45 am]

BILLING CODE 4910-81-P